DEPARTMENT OF STATE

[Public Notice 4170]

Bureau of Political-Military Affairs; Denied Persons Pursuant to UN Security Council Resolution

AGENCY: Department of State.

ACTION: Notice.

SUMMARY: Notice is hereby given of persons that are subject to an arms embargo in implementation of UN Security Council Resolution 1390 (2002). This action is being taken pursuant to Sections 38 and 42 of the Arms Export Control Act and in accordance with Section 5 of the UN Participation Act (UNPA) and E.O. 12918.

EFFECTIVE DATE: October 24, 2002.

FOR FURTHER INFORMATION CONTACT: Mary Sweeney, Munitions Control Analyst, Office of Defense Trade Controls, Bureau of Political-Military Affairs, Department of State (202) 633-2700.

SUPPLEMENTARY INFORMATION: Section 2(c) of UN Security Council Resolution 1390 (2002) requires an arms embargo against those individuals, groups, undertakings and entities listed in the consolidated list created pursuant to UN Security Council Resolutions 1267 (1999) and 1333 (2000). Specifically, the Resolution requires that Member States prevent the direct or indirect supply, sale and transfer, to those on the Sanctions Committee list, from their territories or by their nationals outside their territories, or using their flag vessels or aircraft, of arms and related material of all types including weapons and ammunition, military vehicles and equipment, paramilitary equipment, and spare parts for the aforementioned and technical advice, assistance, or training related to military activities. U.S. manufacturers and exporters and any other affected parties are hereby notified the Department has imposed a policy of denial for any new license application or other request for approval for the export or transfer of defense articles or defense services if any of the names on the list below appear in connection with the application or other request for approval subject to Section 38 of the Arms Export Control Act. This action also precludes the use of any exemptions from licensing or other approval (e.g. brokering) requirements available under the International Traffic in Arms Regulations (ITAR) involving any person on the list.

The term “person”, as defined in 22 CFR 120.14 of the ITAR, means a natural person as well as a corporation, business association, partnership, society, trust, or any other entity, organization or group, including governmental entities.

This action has been taken pursuant to sections 38 and 42 of the AECA (22 U.S.C. 2778 and 2791) and § 126.7 of the International Traffic in Arms Regulations in furtherance of the foreign policy of the United States, and in accordance with section 5 of the UNPA (22 U.S.C. 287(c)) and E.O. 12918.

In accordance with these authorities the following persons are subject to this arms embargo:

A. Resolution 1267 (1999)

Individuals

1. Mullah Mohammad Rabbani, Chairman of the Ruling Council, Head of the Council of Ministers;

2. Mullah Hadji Mohammad Hassan, First Deputy, Council of Ministers; Governor of Kandahar;

3. Maulavi Abdul Kabir, Second Deputy, Council of Ministers; Governor of Nangahar Province; Head of Eastern Zone;

4. Mullah Mohammed Omar, Leader of the Faithful (‘Amir ul-Mumineen’), Afghanistan;

5. Mullah Mohammed Tahre Anwari, Administrative Affairs;

6. Maulavi Sayyed Haqqan, Minister of Administrative Affairs;

7. Maulavi Abdul Latif Mansur, Minister of Agriculture;

8. Mullah Shams-ur-Rahman, Deputy Minister of Agriculture;

9. Maulavi Attiqullah Akhund, Deputy Minister of Agriculture;

10. Maulavi Abdul Ghafoor, Deputy Minister of Agriculture;

11. Akhtar Mohammad Mansour, Minister of Civil Aviation and Transportation;

12. Hadji Tahis, Deputy Minister of Civil Aviation;

13. Mullah Mohammad Naim, Deputy Minister of Civil Aviation;

14. Hidayatuallah Abu Turab, Deputy Minister of Civil Aviation;

15. Mullah Yar Mohammad Rahimi, Minister of Communication;

16. Mullah Haji Alla Dad Tayeb, Deputy Minister of Communication;

17. Maulavi Abdul Razaq, Minister of Commerce;

18. Maulavi Faiz Mohammad Faizan, Deputy Minister of Commerce;

19. Maulavi Nik Mohammad, Deputy Minister of Commerce;

20. Mullah Matiullah, Kabul Custom House;

21. Maulavi Dadullah Akhund, Minister of Construction;

22. Mullah Hadji Ubaidullah Akhund, Minister of Defense;

23. Mullah Fazel M. Mazloom, Deputy Chief of Army Staff;

24. Mullah Baradar, Deputy, Minister of Defence;

25. Mullah Abdul Rauf, Commander of Central Corpus;

26. Mullah Amir Khan Motaql, Minister of Education;

27. Mullah Mohammad Nasim Hanafi, Deputy Minister of Education;

28. Maulavi S. Ahmed Skahidkhel, Deputy Minister of Education;

29. Mullah Abdul Wasay Aghajan Motasem, Minister of Finance;

30. Mullah Arefullah Aref, Deputy Minister of Finance;

31. Mullah Haji M. Ahmadi, President of Da Afghanistan Bank;

32. Abdul Wakil Mutawakil, Minister of Foreign Affairs;

33. Abdul Rahman Zahed; Deputy Minister of Foreign Affairs;

34. Mullah Abdul Jalil, Deputy Minister of Foreign Affairs;

35. Dr. Abdul Satar Paktis, Protocol Dept., Ministry of Foreign Affairs;

36. Maulavi Faiz, Information Dept., Ministry of Foreign Affairs;

37. Shams-us-Safa Aminzai, Press-Centre, Ministry of Foreign Affairs;

38. Maulavi Abdul Baqi, Consulate Dept., Ministry of Foreign Affairs;

39. M. Jawaz Waziri, UN Dept., Ministry of Foreign Affairs;

40. Maulavi Djallalouddine Haqani, Minister of Frontier Affairs;

41. Maulavi Abdul Hakim Monib, Deputy Minister of Frontier Affairs;

42. Alhaj M. Ibrahim Omari, Deputy Minister of Frontier Affairs;

43. Qari Don Mohammad, Minister Higher Education;

44. Maulavi Hamidullah Nomani, High Ranking Official in the Ministry of Higher Education;

45. Zabihullah Hamidi, Deputy Minister of Higher Education;

46. Maulavi Arsalan Rahmani, Deputy Minister of Higher Education;

47. Maulavi Qudratuallah Jamal, Minister of Information;

48. Mullah Abdul Baqi, Vice-Minister of Information and Culture;

49. Maulavi Abdul Rahman Ahman Hottak, Deputy (Cultural) Minister of Information and Culture;

50. Maulavi Rahimullah Zurmati, Deputy (Publication) Minister of Information and Culture;

51. Abdulhai Motmacn, Information and Culture Dept., Kandahar;

52. Maulavi Mohammad Yaqoub, Head of BIA;

53. Mullah Abdul Razaq, Minister of Interior Affairs;

54. Mullah Abdul Samad Khaksar, Deputy (Security) Minister of Interior Affairs;

55. Mohammad Sharif, Deputy Minister of Interior Affairs;

56. Maulavi Noor Jalal, Deputy (Administrative) Minister of Interior Affairs;

57. Maulavi Saed M. Azim Agha, Passport and Visa Dept.;

58. Mullah Nooruddin Turabi, Minister of Justice;

59. Maulavi Jalaluddine Shinwari, Deputy Minister of Justice;

60. Alhaj Mullah Mohammad Essa Akhund, Minister of Mines and Industries;

61. Maulavi Sayeedur Rahman Haqani, Deputy Minister of Mines and Industries;

62. Mullah Abdul Salam Zaief, Deputy Minister of Mines and Industries;

63. Maulavi Mohammad Azam Elmi, Deputy Minister of Mines and Industries;

64. Qari Din Mohammad Hanif, Minister of Planning;

65. Maulavi Ezatullah, Deputy Minister of Planning;

66. Maulavi M. Musa Hottak, Deputy Minister of Planning;

67. Mullah Mohammad Abbas Akhund, Minister of Public Health;

68. Sher Abbas Stanekzai, Deputy Minister of Public Health;

69. Maulavi Mohammadullah Mati, Minister of Public Works;

70. Maulavi Rostam Nuristani, Deputy Minister of Public Works;

71. Hadji Molla Atiqullah, Deputy Minister of Public Works;

72. Maulavi Najibullah Haqqani, Deputy Minister of Public Works;

73. Maulavi Sayyed Ghiassouddine Agha, Minister of Haj and Religious Affairs;

74. Maulavi Moslim Haqqani, Deputy Minister of Haj and Religious Affairs;

75. Maulavi Qalamudin Momand, Deputy Minister of Haj Afairs;

76. Maulavi Abdul Raqib Takhari, Minister of Repatriation;

77. Ramatullah Wahidyar, Deputy Minister for Martyrs and Repatriation;

78. Mohammad Sediq Akhundzada, Deputy Minister of Martyrs and Repatriation;

79. Maulavi Mohammad Wali, Minister of Department of Preventing Vice and Propagating Virtue;

80. Maulavi Mohammad Salim Haqqani, Deputy Minister of Preventing Vice and Propagating Virtue;

81. Maulavi Sayed Esmatullah Asem, Deputy Minister of Preventing Vice and Propagating Virtue;

82. Qari Ahmadulla, Minister of Security (Intelligence);

83. Maulavi Abdul-Haq-Wasseq, Deputy Minister of Security (Intelligence);

84. Maulavi Ehsanullah, Deputy Minister of Security (Intelligence);

85. Mullah Habibullah Reshad, Head of Investigation Dept.;

86. Mullah Ahmed Jan Akhund, Minister of Water and Electricity;

87. Eng. Mohammad Homayoon, Deputy Minister of Water and Electricity;

88. Maulavi Saiduddine Sayyed, Vice-Minister of Work and Social Affairs;

89. Maulavi Abdul Jabbar, Governor of Baghlan Province;

90. Maulavi Nurullah Nuri, Governor of Balkh Province; Head of Northern Zone;

91. Muhammad Islam, Governor of Bamiyan Province;

92. Mullah Janan, Governor of Fariab;

93. Mullah Dost Mohammad, Governor of Ghazni Province;

94. Maulavi Khair Mohammad Khairkhwah, Governor of Heart Province;

95. Maulavi Abdul Bari, Governor of Helmand Province;

96. Maulavi Walijan, Governor of Jawzjan Province;

97. Mullah M. Hasan Rahmani, Governor of Kandahar Province;

98. Mullah Manan Nyazi, Governor of Kabul Province;

99. Maulavi A. Wahed Shafiq, Deputy Governor of Kabul Province;

100. Alhaj Mullah Sadudin Sayed, Mayor of Kabul City;

101. Maulavi Shafiquallah Mohammadi, Governor of Khost Province;

102. Maulavi Nazar Mohammad, Governor or Kunduz Province;

103. M. Eshaq, Governor of Laghman Province;

104. Maulavi Zia-ur-Rahman Madani, Governor of Logar Province;

105. Maulavi Hamsudin, Governor of Wardak (Msidan) Province;

106. Maulavi A. Kabir, Governor of Nangarhar Province;

107. Mullah M. Rasul, Governor of Nimroz Province;

108. Maulavi Tawana, Governor of Paktia Province;

109. Mullah M. Shafiq, Governor of Samangan Province;

110. Maulavi Aminullah Amin, Governor of Saripul Province;

111. Maulavi Abdulhai Salek, Governor of Urouzgan Province;

112. Maulavi Ahmad Jan, Governor of Zabol Province;

113. Noor Mohammad Saqib, Chief Justice of Supreme Court;

114. Maulavi Sanani, Head of Dar-ul-Efta;

115. Maulavi Samiullah Muazen, Deputy of High Court;

116. Maulavi Shahabuddin Delawar, Deputy of High Court;

117. Abdul Rahman Agha, Chief Justice of Military Court;

118. Mullah Mustasaed, Head of Academy of Sciences;

119. Maulavi Esmatullah Asem, SG of Afghan Red Crescent Society (ARCS);

120. Maulavi Qalamuddin, Head of Olympic Committee;

121. Abdul Salam Zaeef, Taliban Ambassador to Pakistan;

122. Abdul Hakim Mujahid, Taliban envoy to the United Nations;

123. General Rahmatullah Safi, Taliban representative in Europe;

124. Mullah Hamidullah, Head of Ariana Afghan Airlines;

125. Alhaj Mullah Sadruddin, Mayor of Kabul City;

126. Amir Khan Muttaqi, Taliban representative in UN-led talks;

127. Mr Jan Mohmmad Madani, Charge d'Affaires, Taliban Embassy, Abu Dhabi;

128. Mr Shamsalah Kmalzada, Second Secretary, Taliban Embassy, Abu Dhabi;

129. Mr Azizirahman, Third Secretary, Taliban Embassy, Abu Dhabi;

130. Mr Mawlawi Abdul Manan, Commercial Attache, Taliban Embassy, Abu Dhabi;

131. Malawi Abdul Wahab, Taliban Charge d'Affairs in Riyadh; Taliban “Embassy,” Islamabad

132. Mullah Abdul Salam Zaeef (Ambassador Extraordinary & Plenipotentiary);

133. Ilabibullab Fauzi (First Secretary/Deputy Head of Mission);

134. Mohammad Sobail Shaheen (Second Secretary);

135. Mohammad Sarwar Siddiqmal (Third Secretary);

136. Mullah Mohammad Zahid (Third Secretary);

137. General Abdul Qadeer (Military Attache);

138. Maulavi Nazirullah Anafi (Commercial Attache);

139. Maulavi Abdul Ghafar Qurishi (Repatriation Attache);

140. Mohammad Daud (Administrative Attache); Taliban “Consulate General,” Peshawar

141. Maulavi Najibullah (Consul General);

142. Qari Abdul Wali (First Secretary);

143. Syed Allamuddin (Second Secretary);

144. Maulavi Akhtar Mohmmad (Education Attache);

145. Alhaj Maulavi Mohammad Saddiq (Trade Representative); Taliban “Consulate General,” Karachi

146. Maulavi Rahamatullah Kakazada (Consul General);

147. Mufti Mohammad Aleem Noorani (First Secretary);

148. Haji Abdul Ghafar Shenwary (Third Secretary);

149. Maulavi Gul Ahmad Hakimi (Commercial Attache); Taliban “Consulate General,” Quetta

150. Maulavi Abdullah Murad (Consul General);

151. Maulavi Abdul Haiy Aazem (First Secretary);

152. Maulavi Hamdullah (Repatriation Attache);

Entities

1. De Afghanistan Momtaz Bank.

B. Resolution 1333 (2000)

Individuals

1. Abd Al-Hadi Al-Iraqi (a.k.a. Abu Abdallah, Abdal Al-Hadi Al-Iraqi);

2. Abdul Rahman Yasin (a.k.a. Taha, Abdul Rahman S.; a.k.a. Taher, Abdul Rahman S.; a.k.a. Yasin, Abdul Rahman Said; a.k.a. Yasin, Aboud) DOB: 10 Apr 1960; POB: Bloomington, Indiana, U.S.A.; Citizen U.S.A.;

3. Abdullah Ahmed Abdullah (a.k.a. Abu Mariam, a.k.a. Al-Masri, Abu Mohamed; a.k.a. Saleh); Afghanistan; DOB: 1963; POB: Egypt; Citizen Egypt;

4. Abdullkadir, Hussein Mahamud, Florence, Italy;

5. Abu Hafs the Mauritanian (a.k.a. Mahfouz Ould Al-Walid, Khalid Al-Shanqiti, Mafouz Walad Al-Walid, Mahamedou Oui Slahi) DOB 1 Jan 75;

6. Abu Zubaydah (a.k.a. Abu Zubaida, Abd Al-Hadi Al-Wahab, Zain Al-Abidin Muhahhad Husain, Zain Al-Abidin Muhahhad Husain, Zayn Al-Abidin Muhammad Husayn, Tariq); Thought to be a Saudi, Palestinian and Jordanian national. Close associate of Usama Bin Laden and facilitator of terrorist travel. DOB: 12 March 71; POB: Riyadh, Saudi Arabia;

7. Agha, Haji Abdul Manan (a.k.a. Saiyid, Abd Al-Man, Am) Pakistan;

8. Ahmed Khalfan Ghailani (a.k.a. “Ahmed The Tanzanian”; a.k.a. “Foopie”; a.k.a. “Fupi”; a.k.a. Ahmad, Abu Bakr; a.k.a. Ahmed, A.; a.k.a. Ahmed, Abubakar; a.k.a. Ahmed, Abubakar K.; a.k.a. Ahmed, Abubakar Khalfan; a.k.a. Ahmed, Abubakary K.; a.k.a. Ahmed, Ahmed Khalfan; a.k.a. Al Tanzani, Ahmad; a.k.a. Ali, Ahmed Khalfan; a.k.a. Bakr, Abu; Ghailani, Abubakary Khalfan Ahmed; a.k.a. Ghailani, Ahmed; a.k.a. Ghilani, Ahmad Khalafan; a.k.a. Hussein, Mahafudh Abubakar Ahmed Abdallah; a.k.a. Khabar, Abu; a.k.a. Khalfan, Ahmed; a.k.a. Mohammed, Shariff Omar); DOB: 13 Apr. 1974; Alt. DOB: 14 Apr. 1974; Alt. DOB: 1 Aug. 1970; POB: Zanzibar, Tanzania; Citizen Tanzania;

9. Ahmed Mohammed Hamed Ali (a.k.a. Abdurehman, Ahmed Mohammed; a.k.a. Abu Fatima; a.k.a. Abu Islam; a.k.a. Abu Khadiijah; a.k.a. Ahmed Hamed; a.k.a. Ahmed The Egyptian; a.k.a. Ahmed, Ahmed; a.k.a. Al-Masri, Ahmad; a.k.a. Al-Surir, Abu Islam; a.k.a. Ali, Ahmed Mohammed; a.k.a. Ali, Hamed; a.k.a. Hamed, Ahmed; a.k.a. Shieh, Ahmed; a.k.a. Shuaib) Afghanistan; DOB: 1965; POB: Egypt; Citizen: Egypt;

10. Al-Fawaz, Khalid (a.k.a. Al-Fauwaz, Khaled; Al-Fauwaz, Khaled A.; Al-Fawwaz, Khalid; Al Fawwaz, Khalik; Al-Fawwaz, Khaled; Al Fawwaz, Khaled); DOB: August 25, 1962; 55 Hawarden Hill, Brooke Road, London NW2 7BR, UK.

11. Al-Hamti, Muhammad (a.k.a. Al-Ahdal, Mohammad Hamdi Sadiq; a.k.a. Al-Makki, Abu Asim), Yemen;

12. Al-Haq, Amin (a.k.a. Amin, Muhammad; a.k.a. Ah Haq, Dr. Amin; Ul-Haq, Dr. Amin); DOB: 1960; POB: Nangahar Province, Afghanistan; Afghan national, Security coordinator for Usama Bin Laden.;

13. Ali, Abbas Abdi, Mogadishu, Somalia;

14. Ali, Yusaf Ahmed, Hallbybybacken 15, 70 Spanga, Sweden; DOB: 20 November 1974;

15. Al-Jadawi, Saqar; DOB: 1965; Thought to be a Yemeni and Saudi national. Aide to Usama Bin Laden,;

16. Al-Jaziri, Abu Bakr, nationality Algerian, Address: Peshawar, Pakistan—affiliated with Afghan Support Committee (ASC);

17. Al-Kadr, Ahmad Sa'id (a.k.a. Al-Kanadi, Abu Abd Al-Rahman); DOB: 01 March 1948; POB: Cairo, Egypt; Thought to be an Egyptian and Canadian national.;

18. Al-Libi, Abd al-Muhsin, a.k.a. Ibrahim Ali Muhammad Abu Bakr—affiliated with Afghan Support Committee (AFC) and Revival of Islamic Heritage Society (RIHS);

19. Al-Masri, Abu Hamza (a.k.a. Al-Misri, Abu Hamza); DOB April 15, 1958; 9 Alboume Road, Shepherds Bush, London W12 OLW, UK; 8 Adie Road, Hammersmith, London W6 OPW, UK;

20. Al-Qadi, Yasin (a.k.a. Kadi, Shaykh Yassin Abdullah; a.k.a. Kahdi, Yasin) Jeddah, Saudi Arabia.

21. Al-Sharif, Sa'd; DOB: 1969; POB: Saudi Arabia; Brother-in-law and close associate of Usama Bin Laden. Said to be head of Usama Bin Laden's financial organization.;

22. Anas Al-Liby (a.k.a. Al-Bibi, Anas; a.k.a. Al-Raghie, Nazih; a.k.a. Al-Raghie, Nazih Abdul Hamed; a.k.a. Al-Sabai, Anas) Afghanistan; DOB: 30 Mar 1964; Alt. DOB: 14 May 1964; POB: Tripoli, Libya; Citizen: Libya;

23. Aouadi, Mohamed Ben Belgacem (a.k.a. Aouadi, Mohamed Ben Belkacem); DOB 12/11/1974; POB Tunisia; Address: Via A. Masina n. 7, Milan, Italy;

24. Aweys, Dahir Ubeldullahi, via Cipriano Facchinetti 84, Rome, Italy;

25. Aweys, Hassan Dahir (a.k.a. Ali, Sheikh Hassan Dahir Aweys) (a.k.a. Awes, Shaykh Hassan Dahir); DOB: 1935; Citizen: Somalia;

26. Ayman Al-Zawahari (a.k.a. Ahmed Fuad Salim; a.k.a. Aiman Muhammed Rabi Al-Zawahiri) Operational and Military Leader of Jihad Group. Thought to be an Egyptian national. Former leader of Egyptian Islamic Jihad, now a close associate of Usama Bin Laden. DOB: 19 Jun 1951; POB: Giza;

27. Ben Heni, Lased; DOB 02/05/1969; POB Libya;

28. Bin Marwan, Bilal; DOB: 1947; Senior lieutenant of Usama Bin Laden;

29. Bin Muhammad, Ayadi Chafiq (a.k.a. Ayadi Shafiq, Ben Muhammad; a.k.a. Ayadi Chafik, Ben Muhammad; a.k.a. Aiady, Ben Muhammad); Helene Meyer Ring 10-1415-80809, Munich, Germany; 129 Park Road, NW8, London, England; 28 Chausse Di Lille, Moscron, Belgium, Darvingasse 1/2/58-60, Vienna, Austria; Tunisia; DOB: 21 January 1963; POB: Safais (Sfax), Tunisia;

30. Bouchoucha, Mokhtar (a.k.a. Bushusha, Mokhtar); DOB 10/13/1969; POB Tunisia; Address: Via Milano n.38, Spinadesco (CR), Italy;

31. Charaabi, Tarek (a.k.a. Sharaabi, Tarek); DOB 03/31/1970; POB Tunisia; Address: Viale Bligny n.42, Milan, Italy;

32. Darkazanli, Mamoun; Uhlenhorster Weg 34, Hamburg, 22085 Germany; DOB: August 4, 1958; POB: Aleppo, Syria;

33. Es Sayed, Abdelkader Mahmoud (a.k.a. Es Sayed, Kader); DOB 12/26/1962; POB Egypt; Address: Via del Fosso di Centocelle n.66, Rome, Italy;

34. Essid, Sami Ben Khemais; DOB 02/10/1968; POB Tunisia; Address: Via Dubini n.3, Gallarate (VA);

35. Fahid Mohammed Ally Msalam (a.k.a. Al-Kini, Usama; a.k.a. Ally, Fahid Mohammed; a.k.a. Msalam, Fahad Ally; a.k.a. Msalam, Fahid Mohammed Ali; a.k.a. Msalam, Mohammed Ally; a.k.a. Musalaam, Fahid Mohammed Ali; a.k.a. Salem, Fahid Muhamad Ali); DOB: 19 Feb 1976; POB: Mombasa, Kenya; Citizen Kenya;

36. Fazul Abdullah Mohammed (a.k.a. Abdall, Fazul; a.k.a. Adballah, Fazul; a.k.a. Aisha, Abu; a.k.a. Al Sudani, Abu Seif; a.k.a. Ali Fadel Abdallah Mohammed; a.k.a. Fazul Abdalla; a.k.a. Fazul Abdallah; a.k.a. Fazul, Abdallah Mohammed; a.k.a. Fazul, Haroon; a.k.a. Fazul, Harun; a.k.a. Haroon; a.k.a. Haroun, Fadhil; a.k.a. Harun; a.k.a. Luqman, Abu; a.k.a. Mohammed, Fazul; a.k.a. Mohammed, Fazul Abdilahi; a.k.a. Mohammed Fouad; a.k.a. Muhamad, Fadil Abdallah); DOB: 25 Aug 1972; Alt. DOB: 25 Dec 1974; Alt. DOB: 25 Feb 1974; POB: Moroni, Comoros Islands; Citizen Comoros; Alt. Citizen Kenya;

37. Hijazi, Riad (a.k.a. Hijazi, Raed M.; a.k.a. Al-Hawen, Abu-Ahmad; a.k.a. Al-Maghribi Rashid (The Moroccan); a.k.a. Al-Amriki, Abu-Ahmad (The American); a.k.a. Al-Shahid, Abu-Ahmad), Jordan; DOB: 1968; POB: California, U.S.A.;

38. Himmat, Ali Ghaleb, via Posero 2, ch-6911 Campione D'Italia, Switzerland; DOB: 16 June 1938; POB: Damascus, Syria; citizenship: Switzerland and Tunisia;

39. Huber, Albert Friedrich Armand (a.k.a. Huber, Ahmed), Mettmenstetten, Switzerland; DOB: 1927;

40. Ibn Al-Shaykh Al-Libi;

41. Jim'ale Ahmed Nur Ali (a.k.a. Jimale, Ahmed Ali) (a.k.a. Jim'ale, Ahmad Nur Ali) (a.k.a. Jumale, Ahmed Nur) (a.k.a. Jumali, Ahmed Ali) P.O. Box 3312, Dubai, UAE; Mogadishu, Somalia;

42. Kabie, Abdullahi Hussein, Bakara Market, Dar Salaam Buildings, Mogadishu, Somalia;

43. Ladehyanoy, Mufti Rashid Ahmad (a.k.a. Ludhianvi, Mufti Rashid Ahmad; a.k.a. Armad, Mufti Rasheed; a.k.a. Wadehyanoy, Mufti Rashid Ahmad); Karachi, Pakistan;

44. Mahmound, Sultan Bashir-Ud-Din (a.k.a. Mahmood, Sultan Bashiruddin; a.k.a. Mehmood, Dr. Bashir Uddin; a.k.a. Mekmud, Sultan Baishiruddin), Street 13, Wazir Akbar Khan, Kabul, Afghanistan (alt. DOB 1937; alt. DOB 1938; alt. DOB 1939; alt. DOB 1940; alt. DOB 1941; alt. DOB 1942; alt. DOB 1943; alt. DOB 1944; alt. DOB 1945; nationality: Pakistani);

45. Majeed, Abdul (a.k.a. Majeed Chaudhry Abdul; a.k.a. Majid, Abdul) DOB: 15 April 1939; DOB: 15 April 1939; alt. DOB 1938; nationality: Pakistani);

46. Makhtab Al-Khidamat/Al Kifah;

47. Mansour, Mohamed, (a.k.a. Al-Mansour, Dr. Mohamed), ob. Heslibachstr. 20, Kusnacht, Switzerland; Zurich, Switzerland; DOB: 1928; POB: Egypt or UAE;

48. Mansour-Fattouh, Zenab, Zurich, Switzerland;

49. Muhammed Atif (a.k.a. Subhi Abu Sitta, Abu Hafs Al Masri, Sheik Taysir Abdullah, Mohamed Atef, Abu Hafs Al Masri El Khabir, Taysir) DOB: 1956; POB: Alexandria, Egypt; Alt. DOB: 1951; Alt. DOB: 1944; Thought to be an Egyptian national. Senior lieutenant to Usama Bin Laden.;

50. Muhammad Salah (a.k.a. Nasr Fahmi Nasr Hasanayn);

51. Muhsin Musa Matwalli Atwah (a.k.a. Abdel Rahman; a.k.a. Abdul Rahman; a.k.a. Al-Muhajir, Abdul Rahman; a.k.a. Al-Namer, Mohammed K.A.), Afghanistan; DOB: 19 Jun 1964; POB: Egypt; Citizen: Egypt;

52. Mustafa Mohamed Fadhil (a.k.a. Al Masri, Abd Al Wakil; a.k.a. Al-Nubi, Abu; a.k.a. Ali, Hassan; a.k.a. Anis, Abu; a.k.a. Elbishy, Moustafa Ali; a.k.a. Fadil, Mustafa Muhamad; a.k.a. Fazul, Mustafa; a.k.a. Hussein, a.k.a. Jihad, Abu; a.k.a. Khalid; a.k.a. Man, Nu; a.k.a. Mohammed, Mustafa; a.k.a. Yussrr, Abu); DOB: 23 Jun 1976; POB: Cairo, Egypt; Citizen: Egypt; Alt. Citizen: Kenya; Kenyan Id. No. 12773667; Serial No. 201735161;

53. Nada, Youssef, (a.k.a. Nada, Youssef M.) (a.k.a. Nada, Youssef Mustafa), via Arogno 32, 6911 Campione d'Italia, Italy; via per Arogno 32, ch-6911 Campione d'Italia, Switzerland; via Riasc 4, ch-6911 Campione d'Italia I, Switzerland; DOB: 17 May 1931 or 17 May 1937; POB: Alexandria, Egypt; Citizen: Tunisia;

54. Nasreddin, Ahmed Idris (a.k.a. Nasreddin, Ahmad I.; a.k.a. Nasreddin, Hadji Ahmed; a.k.a. Nasreddine, Ahmed Idriss); Corso Sempione 69, 20149 Milan, Italy; 1 via della Scuole, 6900 Lugano, Switzerland; Piazzale Biancamano, Milan, Italy; Rue De Cap Spartel, Tangiers, Morocco; DOB: 22 November 1929; POB: Adi Ugri, Ethiopia;

55. Sayf-Al Adl (a.k.a. Saif Al-'Adil) DOB: 1963; POB: Egypt. Thought to be an Egyptian national. Responsible for Usama Bin Laden's security.;

56. Shaykh Sai'id (a.k.a. Mustafa Muhammad Ahmad); POB: Egypt;

57. Sheikh Ahmed Salim Swedan (a.k.a. Ahmed The Tall; a.k.a. Ally, Ahmed; a.k.a. Bahamad; a.k.a. Bahamad, Sheik; a.k.a. Bahamadi, Sheikh; a.k.a. Suweidan, Sheikh Ahmad Salem; a.k.a. Swedan, Sheikh; a.k.a. Swedan, Sheikh Ahmed Salem); DOB: 9 Apr 1969; Alt. DOB: 9 Apr 1960; POB: Mombasa, Kenya; Citizen: Kenya;

58. Tariq Anwar Al-Sayyid Ahmad (a.k.a. Hamdi Ahmad Farag, Amr Al-Fatih Fathi); DOB: 15 March 63; POB: Alexandria, Egypt;

59. Thirwat Salah Shihata (a.k.a. Tarwat Salah Abdallah, Salah Shihata Thirwat, Shahata Thirwat); DOB: 29 Jun 60; POB: Egypt;

60. Tufail, Mohammed (a.k.a. Tufail, S.M.; a.k.a. Tuffail, Sheik Mohammed) (nationality: Pakistani);

61. Usama Bin Laden (a.k.a. Usama Bin Muhammed Bin Awad, Osama Bid Laden; a.k.a. Abu Abdallah Abd Al-Hakim); DOB: 30 Jul 57; POB: Jeddah, Saudi Arabia; Alt. DOB: 28 Jul 57; Alt. POB: Yemen; Saudi citizenship withdrawn, now officially and Afghan national;

62. Uthman, Omar Mahmoud (a.k.a. Al-Silistini, Abu Qatada; a.k.a. Takfiri, Abu Umr; a.k.a. Abu Umar, Abu Omar; a.k.a. Uthman, Al-Samman; a.k.a. Umar, Abu Umar; a.k.a. Uthman, Umar; a.k.a. Abu Ismail) London, England; DOB: 30 December 1960 or 13 December 1960;

63. Yuldashev, Tohir (a.k.a. Yuldashev, Takhir), Uzbekistan;

64. Zia, Mohammad (a.k.a. Zia, Ahmad); C/O Ahmed Shah; C/O Painda Mohammad Al-Karim Set, Peshawar, Pakistan; C/O Alam General Store Shop 17, Awami Market, Peshawar, Pakistan; C/O Zahir Sha S/;

Entities

1. Abu Sayyaf Group (a.k.a. Al Harakat Al Islamiyya);

2. Afghan Support Committee (ASC) a.k.a. Lajnat ul Masa Eidatul Afghania, Jamiat Ayat-ur-Rhas al Islamia, Jamiat Ihya ul Turafh al Islamia, and Ahya ul Turas, Office Locations; Headquarters-G.T. Road (probably Grand Trunk Road), near Pushtoon Garhi Pabbi, Peshwar, Pakistan; Cheprahar Hadda, Mia Omar Sabaqah School, Jalabad, Afghanistan;

3. The Aid Organization Of The Ulema (a.k.a. Al Rashid Trust; Al Rasheed Trust; Al-Rasheed Trust; Al-Rashid Trust); Pakistan; Addresses: Kitab Ghar, Darul Ifta Wal Irshad, Nazimabad No. 4, Karachi, Pakistan, Phone 6683301, Phone 0300-8209199, Fax 6623814; 302b-40, Good Earth Court, Opposite Pia Planitarium, Block 13a, Gulshan-I Iqbal, Karachi, Phone 4979263; 617 Clifton Center, Block 5, 6th Floor, Clifton, Karachi, Phone 587-2545; 605 Landmark Plaza, 11 Chundrigar Road, Opposite Jang Building, Karachi, Pakistan, Phone 2623818-19; Jamia Masjid, Sulaiman Park, Begum Pura, Lahore, Pakistan, Phone 042-6812081;

4. Al Baraka Exchange L.L.C., P.O. Box 3313 Deira Dubai, UAE; P.O. Box 20066, Dubai, UAE;

5. Al-Barakaat, Mogadishu, Somalia; Dubai, UAE;

6. Al-Barakaat Bank, Mogadishu, Somalia;

7. Al-Barakat Bank of Somalia (Bss) (a.k.a. Barakat Bank of Somalia), Mogadishu, Somalia; Bossaso, Somalia;

8. Al-Barakat Finance Group, Dubai, UAE; Mogadishu, Somalia;

9. Al-Barakat Financial Holding Co., Dubai, UAE; Mogadishu, Somalia;

10. Al-Barakat Global Telecommunications (a.k.a. Barakaat Globetelcompany), P.O. Box 3313, Dubai, UAE; Mogadishu, Somalia; Hargeysa, Somalia;

11. Al-Barakat Group of Companies Somalia Limited (a.k.a. Al-Barakat Financial Company), P.O. Box 3313, Dubai, UAE; Mogadishu, Somalia;

12. Al-Barakat International (a.k.a. Baraco Co.), Box 2923, Dubai, UAE;

13. Al-Barakat Investments, P.O. Box 3313, Deira, Dubai, UAE;

14. Al-Barakat Wiring Service, 2940 Pillsbury Avenue, Suite 4, Minneapolis, Minnesota 55408;

15. Al-Hamati Sweets Bakeries, Al-Mukallah, Hadhramawt, Governorate, Yemen;

16. Al-Haramain Islamic Foundation—Bosnia and Herzegovina;

17. Al-Haramain Islamic Foundation—Somalia;

18. Al-Itihadd Al-Islamiya/AIAI;

19. Al-Jihad/Egyptian Islamic Movement (a.k.a. Egyptian Al-Jihad, Egyptian Islamic Jihad, Jihad Group, New Jihad);

20. Al-Nur Honey Press Shops (a.k.a. Al-Nur Honey Center), Sanaa, Yemen;

21. Al Taqwa Trade, Property and Industry Company Limited, (f.k.a. Al Taqwa Trade, Property and Industry) (f.k.a. Al Taqwa Trade, Property and Industry Establishment) (f.k.a. Himmat Establishment), C/O Asat Trust Reg., Altenbach 8, 9490 Vaduz Fl, Liechtenstein;

22. Al Qa'ida/Islamic Army (a.k.a. “The Base,” Al Qaeda, Islamic Salvation Foundation, the Group for the Preservation of the Holy Sites, The Islamic Army for the Liberation of Holy Places, The World Islamic Front for the Jihad Against Jews and Crusaders, Usama Bin Laden Network, Usama Bin Laden Organization);

23. Al Rashid Trust (a.k.a. Al-Rasheed Trust); Kitas Ghar, Nazimabad 4, Dahgel-Iftah, Karachi, Pakistan; Jamia Maajid, Sulalman Park, Melgium Pura, Lahore, Pakistan; Office Dha'rbi-M'unin, Opposite Khyber Bank, Abbottabad Road, Mansehra, Pakistan; Office Dha'rbi-M'unin ZR Brothers, Katcherry Road, Chowk Yadgaar, Peshawar, Pakistan; Office Dha'rbi-M'unin, Rm No. 3, Moti Plaza, Near Liaquat Bagh, Muree Road, Rawalpindi, Pakistan; Office Dha'rbi-M'unin, Top Floor, Dr. Dawa Khan Dental Clinic Surgeon, Main Baxac, Mingora, Swat, Pakistan; Operations in Afghanistan: Heart Jalalabad, Kabul, Kandahar, Mazar Sherif. Also operations in Kosovo, Chechnya.;

24. Al-Shifa, Honey Press for Industry and Commerce, P.O. Box 8089, Al-Hasabah, Sanaa, Yemen; By the Shrine Next to the Gas Station, Jamal Street, Ta'iz, Yemen; Al-Arudh Square, Khur Maksar, Aden, Yemen; Al-Nasr Street, Doha, Qatar;

25. Armed Islamic Group (a.k.a. Al Jamm'ah Al-Islamiah Al-Islamiah Al-Musallah, GIA, Groupement Islamique Arme);

26. Asat Trust Reg., Altenbach 8, 9490 Vaduz Fl, Liechtenstein;

27. Asbat Al-Ansar;

28. Bank Al Taqwa Limited (a.k.a. Al Taqwa Bank) (a.k.a. Bank Al Taqwa), P.O. Box N-4877, Nassau, Bahamas; C/O Arthur D. Hanna & Company, 10 Deveaux Street, Nassau, Bahamas;

29. Barakaat Construction Company, P.O. Box 3313, Dubai, UAE;

30. Barakaat Group of Companies, P.O. Box 3313, Dubai, UAE; Mogadishu, Somalia;

31. Barakaat International, Hallbybacken 15, 70 Spanga, Sweden;

32. Barakaat International Foundation, Box 4036, Spanga Stockholm, Sweden; Rinkebytorget 1, 04 Spanga, Sweden;

33. Barakaat North America, Inc., 925 Washington Street, Dorchester, Massachusetts; 2019 Bank Street, Ottawa, Ontario, Canada;

34. Barakaat Red Sea Telecommunications, Bossaso, Somalia; Nakhiil, Somalia; Huruuse, Somalia; Raxmo, Somalia; Ticis, Somalia; Kowthar, Somalia; Noobir, Somalia; Bubaarag, Somalia; Gufure, Somalia; Xuuxuule, Somalia; Ala Aamin, Somalia; Guureeye, Somalia; Najax, Somalia; Carafaat, Somalia;

35. Barakaat Telecommunications Co. Somalia, Ltd., P.O. Box 3313, Dubai, UAE;

36. Barakat Banks and Remittances, Mogadishu, Somalia; Dubai, UAE;

37. Barakaat Boston, 266 Neponset Avenue, Apt. 43, Dorchester, Massachusetts 02122-3224;

38. Barakat Computer Consulting (BCC), Mogadishu, Somalia;

39. Barakat Consulting Group (BCG), Mogadishu, Somalia;

40. Barakat Global Telephone Company, Mogadishu, Somalia; Dubai, UAE;

41. Barakat International Companies (BICO), Mogadishu, Somalia; Dubai, UAE;

42. Barakaat International, Inc. 1929 South 5th Street, Suite 205, Minneapolis, Minnesota;

43. Barakat Post Express (BPE), Mogadishu, Somalia;

44. Barakat Refreshment Company, Mogadishu, Somalia; Dubai, UAE;

45. Barakat Telecommunications Company Limited (a.k.a. Btelco), Bakara Market, Dar Salaam Buildings, Mogadishu, Somalia; Kievitlaan 16, T'veld, Noord-Hollan, The Netherlands;

46. Barakaat Wire Transfer Company, 4419 South Brandon Street, Seattle, Washington;

47. Barako Trading Company, LLC, P.O. Box 3313, Dubai, UAE;

48. Baraka Trading Company, P.O. Box 3313, Dubai, UAE;

49. Harakat Ul-Mujahidin/HUM (a.k.a. Al-Faran, Al-Hadid, Al-Hadith, Harakat Ul-Ansar, HUA, Harakat Ul-Mujahideen);

50. Heyatul Ulya, Mogadishu, Somalia;

51. Islamic Army of Aden;

52. Islamic Movement of Uzbekistan (a.k.a. IMU);

53. Jaish-I-Mohammed (a.k.a. Army of Mohammed), Pakistan;

54. Jam'yah Ta'awun Al-Islamia (a.k.a. Society of Islamic Cooperation) (a.k.a. Jam'iyat Al Ta'awun Al Islamiyya) (a.k.a. Jit), Qandahar City, Afghanistan;

55. Libyan Islamic Fighting Group;

56. Mamoun Darkazanll Import-Export Company (a.k.a. Darkazanli Company, Darkazanli Export-Import Sonderposten), Uhlenhorsterweg 3411 Hamburg, Germany;

57. Nada Management Organization Sa (f.k.a. Al Taqwa Management Organization Sa), Viale Stefano Franscini 22, Ch-6900 Lugano Ti, Switzerland;

58. Parks Trading Company, PO Box 3313, Deira, Dubai, UAE;

59. Rabita Trust, Room 9a, 2nd Floor, Wahdat Road, Education Town, Lahore, Pakistan; Wares Colony, Lahore, Pakistan;

60. Red Sea Barakat Company Limited, Mogadishu, Somalia; Dubai; UAE;

61. Revival of Islamic Heritage Society (RIHS), a.k.a. Jamiat Ihia Al-Turath Al-Islamiya, Revival of Islamic Society Heritage on the African Continent, Jamia Ihya ul Turath, Office Locations: Pakistan and Afghanistan;

62. Salafist Group for Call and Combat/GSPC (a.k.a. Le Groupe Salafiste Pour La Prediction et le Combat);

63. Somali Internet Company, Mogadishu, Somalia;

64. Somali International Relief Organization, 1806 Riverside Avenue, 2nd Floor, Minneapolis, Minnesota;

65. Somali Network Ab, Hallybybacken 15, 70 Spanga, Sweden;

66. Unmah Tameer E-Nau (Utn), Street 13, Wazir Akbar Khan, Kabul, Afghanistan; Pakistan;

67. Wafa Humanitarian Organization (a.k.a. Al Wafa, Al Wafa Organization, Wafa Al-Igatha Al-Islamia), Jordan House No. 125, Street 54, Phase II Hayatabad, Peshawar, Pakistan, Offices in: Saudi Arabia, Kuwait, and UAE;

68. Youssef M. Nada, Via Riasc 4, Ch-6911 Campionie D'Italia I, Switzerland;

69. Youssef M. Nada & Co. Gescellschaft M.B.H., Kaertner Ring 2/2/5/22, 1010 Vienna, Austria.

Dated: October 8, 2002.
John R. Bolton,
Under Secretary, Arms Control and International Security, Department of State.

[FR Doc. 02-27152 Filed 10-23-02; 8:45 am]

BILLING CODE 4710-25-P